DEPARTMENT OF TRANSPORTATION

National Highway Traffic Safety Administration

Reports, Forms, and Record Keeping Requirements; Agency Information Collection Activity Under OMB Review

AGENCY: National Highway Traffic Safety Administration (NHTSA), DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collection and the expected burden. The Federal Register Notice with a 60-day comment period was published on March 20, 2009 (74 FR 11992-11993).

DATES: Comments must be submitted on or before April 1, 2010.

ADDRESSES: Send comments, within 30 days, to the Office of Information and Regulatory Affairs, Office of Management and Budget, 725-17th Street, NW., Washington, DC 20503, Attention NHTSA Desk Officer.

FOR FURTHER INFORMATION CONTACT: Randolph Atkins, Ph.D., Office of Behavioral Safety Research, National Highway Traffic Safety Administration, NTI-131, Room W46-500, 1200 New Jersey Ave., SE., Washington, DC 20590. Dr. Atkins' phone number is 202-366-5597 and his e-mail address is randolph.atkins@dot.gov.

SUPPLEMENTARY INFORMATION:

Title: National Survey of Speeding Attitudes and Behavior: 2010.

Type of Request: New information collection requirement.

Abstract: Data from previous studies by the National Highway Traffic Safety Administration (NHTSA) has shown that 31 percent of all fatal crashes are directly traceable to excessive speed. In 2008, 11,674 people died in excessive speed-related crashes. The cost of these crashes is approximately 40 billion dollars per year. Surveys of drivers' attitudes toward speeding have demonstrated a strong correlation between drivers' attitudes towards speeding and other driving behaviors and actual traffic outcomes. Models based on self-reported measures of intentions and attitudes are used to predict traffic behaviors and design interventions to reduce speeding and other hazardous traffic actions. Some of these models stress the importance of attitude, habits and the interaction of habit with intention.

NHTSA proposes to conduct a 2010 National Survey of Speeding Attitudes and Behavior by telephone among a sample of 6,000 adults (age 16 and older). NHTSA's information needs require a telephone survey of a national probability sample of drivers in the United States that will provide insight into why drivers speed and which methods of enforcement would discourage them from speeding. The questionnaire will contain items on the extent to which drivers speed, demographic and typological descriptions of speeders, locations and times when speeding is most frequent, attitudes and perceptions about speeding, reasons and motivations for speeding, knowledge of measures to deter speeding, attitudes towards measures to deter speeding, and correlates of speeding behavior. In conducting the proposed survey, the interviewers would use computer-assisted telephone interviewing to reduce interview length and minimize recording errors. A Spanish-language translation and bilingual interviewers would be used to minimize language barriers to participation. The proposed survey is the third in the series, which began in 1997. The 2010 survey will repeat many questions from previous surveys in order to monitor changes over time, and will also include new questions on emerging speed-related technologies.

Affected Public: Randomly selected members of the general public age 16 and older, including those in landline telephone households as well as those who primarily or exclusive use a cellular phone. Participation by all respondents would be voluntary and anonymous.

Estimated Total Annual Burden: 2,005 hours (15 pretest interviews averaging 20 minutes per interview, followed by 6,000 interviews administered to the final survey sample averaging 20 minutes per interview).

Comments Are Invited on the Following

(i) Whether the proposed collection of information is necessary for the proper performance of the functions of the agency, including whether the information will have practical utility;

(ii) The accuracy of the agency's estimate of the burden of the proposed information collection;

(iii) Ways to enhance the quality, utility, and clarity of the information to be collected; and

(iv) Ways to minimize the burden of the collection of information on respondents, including the use of automated collection techniques or other forms of information technology.

A comment to OMB is most effective if OMB receives it within 30 days of publication.

Authority: 44 U.S.C. Section 3506(c)(2)(A).

Jeff Michael,
Associate Administrator, Research and Program Development.

[FR Doc. 2010-4194 Filed 3-1-10; 8:45 am]

BILLING CODE 4910-59-P